ENVIRONMENTAL PROTECTION AGENCY

40 CFR Part 52

[GA-60, GA-61-200332(a); FRL-7543-9]

Approval and Promulgation of Implementation Plans; Georgia: Approval of Revisions to State Implementation Plan

AGENCY: Environmental Protection Agency (EPA).

ACTION: Correction to direct final rule.

SUMMARY: This document contains corrections to the codification of a direct final rule published on July 9, 2003, (68 FR 40786). The rule being corrected pertained to “excess emissions.”

DATES: This correction is effective September 9, 2003.

FOR FURTHER INFORMATION CONTACT: Scott M. Martin, Regulatory Development Section, Air Planning Branch, Air, Pesticides and Toxics Management Division, U.S. Environmental Protection Agency, Region 4, 61 Forsyth Street, SW., Atlanta, Georgia 30303-8960. The telephone number is (404) 562-9036. Mr. Martin can also be reached via electronic mail at martin.scott@epa.gov.

SUPPLEMENTARY INFORMATION: On July 9, 2003, EPA published a Federal Register document granting direct final approval to revisions of the Georgia State Implementation Plan (SIP) which were submitted by the State on July 1, 2002. Included in that submittal were revisions to Georgia's rule 391-3-1-.02(2)(a)(7) “Excess Emissions.” However, the State did not request that this revision be incorporated into the federally approved SIP.

Need for Correction

As published, the direct final rule contains an incorrect approval of a revision to the Georgia SIP. This error was published in the first column on page 40788. Unless this error is corrected rule approval would be incorrectly granted. EPA regrets any inconvenience that this incorrect approval has caused.

List of Subjects in 40 CFR Part 52

Environmental protection, Air pollution control, Carbon monoxide, Nitrogen dioxide, Ozone, Particulate matter, Reporting and recordkeeping requirements, Sulfur oxides, Volatile organic compounds.

Dated: July 23, 2003.
A. Stanley Meiburg,
Acting Regional Administrator, Region 4.

Part 52 of chapter I, title 40, Code of Federal Regulations, is amended as follows:

PART 52—[AMENDED]

1. The authority citation for part 52 continues to read as follows:

Authority: 42 U.S.C. 7401 et seq.

Subpart L—Georgia

2. Section 52.570(c), the entry for “391-3-1-.02(2)(a) General Provisions” is revised to read as follows:

§ 52.570 Identification of Plan

* * * * *

(c) * * *

EPA Approved Georgia Regulations
State citation | Title/subject | State effective date | EPA approval date | Explanation
* * * * * * *
391-3-1-.02(2)(a) | General Provisions | 01/09/91 | 01/26/93 58 FR 6093
* * * * * * *

* * * * *

[FR Doc. 03-20637 Filed 8-13-03; 8:45 am]

BILLING CODE 6560-50-P